DEPARTMENT OF HEALTH AND HUMAN SERVICES

Health Resources and Services Administration

Single-Award Deviations From Competition Requirements: Pediatric Emergency Care Applied Research Network

AGENCY: Health Resources and Services Administration (HRSA), Department of Health and Human Services.

ACTION: Notice of Single-Award Deviation from Competition Requirements for the Pediatric Emergency Care Applied Research Network (PECARN) at the Children's Hospital Medical Center, Cincinnati, Ohio- Grant Number U03MC222684.

SUMMARY: HRSA announces the award of a supplement of $50,000 for the PECARN cooperative agreement. The supplement will permit the Children's Hospital Medical Center, Cincinnati, Ohio, the cooperative agreement recipient to support its oversight of the operation of PECARN as the Chair for 2017-2018.

SUPPLEMENTARY INFORMATION:

Intended Recipient of the Award: Children's Hospital Medical Center, Cincinnati, Ohio.

Amount of Non-Competitive Awards: $50,000.

Period of Supplemental Funding: September 1, 2017, through August 31, 2018.

CFDA Number: 93.127.

Authority: Public Health Service Act, Title XIX, Section 1910 (42 U.S.C. 300w-9); as amended by the Emergency Medical Services for Children Reauthorization Act of 2014, P.L. 113-180.

Justification: As stated in the funding opportunity announcement, the goal of the PECARN is to develop an efficient research network to conduct high quality research and publish evidence-based findings that will impact clinical practice and ensure standardized care in diverse health care settings that serve children, including urban, rural, and tribal settings. The objectives of this award are to:

(1) Support a network infrastructure to conduct high priority, high impact EMSC research using rigorous study designs and methodologies that can be applied to multi-site Emergency Department and/or prehospital emergency settings;

(2) Contribute to an organizational structure that ensures network efficiency, productivity, and fidelity of study implementation and includes the ability to: (a) Develop study projects; (b) Attain extramural funding; (c) Conduct multi-site clinical investigations; (d) Publish and disseminate results; and (e) Develop young investigators in the area of pediatric emergency medicine;

(3) Facilitate translation of research results to EMSC practices; and

(4) Foster collaboration among EMS personnel, nurses, practitioners, and researchers.

Success of the PECARN requires the services of a Chair, who is elected on an annual basis by grantees. This annual supplement is necessary to support the Chair's responsibilities which are within the scope of the cooperative agreement program, but were not required to be budgeted for in the organization's application due to the unknown contingency of who would be elected as Chair on behalf of which organization. Dr. Richard Ruddy of Children's Hospital Medical Center, Cincinnati, Ohio, was elected Chair of the PECARN for 2016-2018. The proposed supplement is to supply funds to the Chair to support his oversight of the operation of PECARN including coordinating and running the Steering Committee meetings, appointing Subcommittee Chairpersons to be later approved by the Steering Committee; maintaining ongoing communications with principal investigators and keeping all of PECARN updated with new/ongoing activities; representing PECARN at national meetings; and serving as liaison to HRSA/Maternal and Child Health Bureau federal officials.

FOR FURTHER INFORMATION CONTACT: Diane Pilkey, Division of Child, Adolescent and Family Health, Maternal and Child Health Bureau, Health Resources and Services Administration, 5600 Fishers Lane, Room 18N58C, Rockville, MD 20852, Phone: 301-443-8927, Email: DPilkey@hrsa.gov.

Grantee/organization name | Grant No. | State | FY 2017 Authorized funding level | FY 2017 Estimated supplemental funding
Children's Hospital Medical Center | U03MC222684 | OH | $735,918 | $50,000

Dated: September 19, 2017.
George Sigounas,
Administrator.

[FR Doc. 2017-20543 Filed 9-25-17; 8:45 am]

BILLING CODE 4165-15-P